DEPARTMENT OF JUSTICE

Notice of Lodging of Stipulation and Order Under the Clean Water Act

Under 28 CFR 50.7, notice is hereby given that on July 1, 2008, a proposed Stipulation and Order was lodged with the United States District Court for the District of Massachusetts (the “Court”) in the matter of United States v. Metropolitan District Commission and Massachusetts Water Resources Authority, et al., Civil Action No. 85-0489-RGS.

In a Supplemental Complaint against the Massachusetts Water Resources Authority (the “MWRA”) submitted to the Court in this matter, the United States is seeking injunctive relief and civil penalties against the MWRA for claims arising under the Clean Water Act in connection with the operation of the MWRA's secondary treatment facilities located at the Deer Island Treatment Plant (“DITP”) on Deer Island in Boston Harbor. Under the Stipulation and Order, the MWRA will pay a civil penalty of $305,000, perform three Supplemental Environmental Projects estimated to cost a total of $305,000, and maintain a secondary treatment process limit at the DITP of at least 700 million gallons per day. The three Supplemental Environmental Projects require the removal of debris from eight tributaries to Boston Harbor, the provision of a pumpout boat to the City of Boston to be used by the City of Boston to pump sewage out of commercial vessels in Boston Harbor and vicinity, and the installation of low flow toilets in public buildings within communities in the MWRA sewer service area to reduce sewage discharge volumes and save water.

The Department of Justice will receive for a period of thirty (30) days from the date of this publication comments relating to the Stipulation and Order. Comments should be addressed to the Assistant Attorney General, Environment and Natural Resources Division, and either e-mailed to pubcomment-ees.enrd@usdoj.gov or mailed to P.O. Box 7611, U.S. Department of Justice, Washington, DC 20044-7611, and should refer to United States v. Metropolitan District Commission and Massachusetts Water Resources Authority, et al., D.J. Ref. No. 90-5-1-1-08992.

The Stipulation and Order may be examined at the Office of the United States Attorney, John J. Moakley, U.S. Court House, 1 Courthouse Way, Suite 9200, Boston, MA 02210, and U.S. EPA, Region I, One Congress Street, Boston, Massachusetts 02203. During the public comment period, the Stipulation and Order may also be examined on the following Department of Justice Web site: http://www.usdoj.gov/enrd/Consent_Decrees.html. A copy of the Stipulation and Order may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $4.75 (25 cents per page reproduction cost) payable to the U.S. Treasury, or, if by e-mail or fax, forward a check in that amount to the Consent Decree Library at the stated address.

Maureen M. Katz,
Assistant Section Chief, Environmental Enforcement Section, Environment and Natural Resources Division.

[FR Doc. E8-15534 Filed 7-8-08; 8:45 am]

BILLING CODE 4410-15-P